DEPARTMENT OF LABOR

Occupational Safety and Health Administration

[Docket No. OSHA-2007-0039]

Intertek Testing Services NA, Inc.: Grant of Expansion of Recognition

AGENCY: Occupational Safety and Health Administration (OSHA), Labor.

ACTION: Notice.

SUMMARY: In this notice, OSHA announces the final decision to expand the scope of recognition for Intertek Testing Services NA, Inc., as a Nationally Recognized Testing Laboratory (NRTL).

DATES: The expansion of the scope of recognition becomes effective on September 21, 2023.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition of Intertek Testing Services NA, Inc. (ITSNA) as a NRTL. ITSNA's expansion covers the addition of 23 test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including ITSNA, which details that NRTL's scope of recognition. These pages are available from the OSHA website at http://www.osha.gov/dts/otpca/nrtl/index.html.

ITSNA submitted an application, dated January 25, 2021 (OSHA-2007-0039-0047), requesting the conversion of 23 existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.” OSHA published the preliminary notice announcing ITSNA's expansion application in the Federal Register on August 15, 2023 (88 FR 55476). The agency requested comments by August 30, 2023, but it received no comments in response to this notice. OSHA is now proceeding with this final grant of expansion of ITSNA's NRTL recognition.¹

¹ In the preliminary notice, OSHA stated that ITSNA's expansion application was dated December 18, 2020. However, OSHA cited to the correct docket number, OSHA-2007-0039-0047, in that notice, which indicates the correct date of January 25, 2021.

To obtain or review copies of all public documents pertaining to the ITSNA application, go to http://www.regulations.gov or contact the Docket Office, Occupational Safety and Health Administration, U.S. Department of Labor. Docket No. OSHA-2007-0039 contains all materials in the record concerning ITSNA's recognition. All submissions, including copyrighted material, are available for inspection through the OSHA Docket Office. Contact the OSHA Docket Office at (202) 693-2350 (TTY (877) 889-5627) for assistance in locating docket submissions.

II. Final Decision and Order

OSHA staff examined ITSNA's expansion applications, its capability to meet the requirements of the test standards, and other pertinent information. Based on its review of this evidence, OSHA finds that ITSNA meets the requirements of 29 CFR 1910.7 for expansion of its recognition, subject to the specified limitations and condition. OSHA limits the expansion of ITSNA's recognition to include the 23 sites listed in Table 1, below. This limitation is consistent with the recognition that OSHA grants to other NRTLs that operate multiple sites.

Table 1—List of Test Sites for Inclusion in ITSNA's NRTL Scope of Recognition
ITSNA site name | Address | Country
Columbus | 1717 Arlingate Lane, Columbus, Ohio 43228 | United States.
Detroit | 45000 Helm Street—Suite 150, Plymouth Township, Michigan 48170 | United States.
Grand Rapids | 4700 Broadmoor SE—Suite 200, Kentwood, Michigan 49512 | United States.
Edmonton | 14920 135 Ave., Edmonton, Alberta T5V 1R9 | Canada.
Montreal | 1829 32nd Avenue, Lachine, Quebec H8T 3J1 | Canada.
Toronto | 6225 Kenway Drive, Mississauga, Ontario L5T 2L3 | Canada.
Mexico City | Poniente 134 No. 660, Col. Industrial Vallejo, Mexico City, Azcapotzalco 02300 | Mexico.
Kaufbeuren | Innovapark 20, Kaufbeuren, 87600 | Germany.
Leatherhead | Cleeve Road, Leatherhead, Surrey KT22 7SA | United Kingdom.
Milton Keynes | Davy Avenue, Knowlhill, Milton Keynes, Buckinghamshire MK5 8NL | United Kingdom.
Udine | Via Principe di Udine 114, Campoformido, Udine 33030, | Italy.
Guangzhou | Building E, Guangdong Software Science Park, No. 7-2, Caipin Road, Science City—GETDD, Guangzhou, Guangdong 510663 | China.
Hangzhou | 4th Floor, Building 4#, No. 22, 22nd Street, Qiantang District Hangzhou, 310018 | China.
Shanghai Fengxian | Plant 5, No. 6958 Daye Road, Fengxian District, Shanghai, 201405 | China.
Shanghai Qinzhou | No. 86, 1198 Qinzhou Road North, Shanghai, 200233 | China.
Shenzhen | 2F, Building B, No. 308 Wuhe Avenue, Zhangkengjing Community, GuanHu Subdistrict, LongHua District, Shenzhen, Guangdong 518067 | China.
Shunde (Foshan) | Guangzhou Branch Shunde Testing Site, Room 604, Block 5, Tianfulai International Industrial Park (the fifth phase), No. 3 Changfu West Road, Ronggui Town, Shunde District, Foshan City, Guangdong Province | China.
Mumbai | “F Wing” Tex Centre, Chandivali Farm Road, Andheri (East), Mumbai, Maharashtra—400072 | India.
New Delhi | E-20 & E26 Block B1, Mohan Cooperative Industrial Area, Mathura Road, New Delhi, 110044 | India.
Tokyo | Yasuda Shibaura No.2 Bldg. 4F, 3-2-12, Kaigan, Minato-ku, Tokyo 108-0022 | Japan.
Seoul | 3, Gongdan-ro 160beon-gil, Intertek Building, Gunpo-si, Gyeonggi-do 15845 | South Korea.
Bangkok | 1285/5 Prachachuen Road, Wong Sawang, Bangsue, Bangkok 10800 | Thailand.
Taipei | 5F, No. 423, Ruiguang Road, Neihu District, Taipei, 114690 | Taiwan.

A. Conditions

In addition to those conditions already required by 29 CFR 1910.7, ITSNA must abide by the following conditions of the recognition:

1. ITSNA must inform OSHA as soon as possible, in writing, of any change of ownership, facilities, or key personnel, and of any major change in its operations as a NRTL, and provide details of the change(s);

2. ITSNA must meet all the terms of its recognition and comply with all OSHA policies pertaining to this recognition; and

3. ITSNA must continue to meet the requirements for recognition, including all previously published conditions on ITSNA's scope of recognition, in all areas for which it has recognition.

Pursuant to the authority in 29 CFR 1910.7, OSHA hereby expands the scope of recognition of ITSNA as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
James S. Frederick,
Deputy Assistant Secretary of Labor for Occupational Safety and Health.

[FR Doc. 2023-20403 Filed 9-20-23; 8:45 am]

BILLING CODE 4510-26-P